DEPARTMENT OF HEALTH AND HUMAN SERVICES

National Institutes of Health

National Institute on Alcohol Abuse and Alcoholism; Amended Notice of Meeting

Notice is hereby given of a change in the meeting of the National Advisory Council on Alcohol Abuse and Alcoholism, February 05, 2026, 11:00 a.m. to February 05, 2026, 4:30 p.m., National Institutes of Health, National Institute on Alcohol Abuse and Alcoholism, 6700B Rockledge Drive, Bethesda, MD 20817 which was published in the Federal Register on January 21, 2026, FR Doc. 2026-01030.

This notice is being amended to change the start times for the Closed and Open portions from Closed 11:00 a.m. to 12:30 p.m. and Open: 1:00 p.m. to 4:30 p.m. The times are now Closed 1:00 p.m. to 2:00 p.m. and Open 2:30 p.m. 4:30 p.m. The meeting is partially closed to the public.

Dated: January 26, 2026.
David W. Freeman,
Supervisory Program Analyst, Office of Federal Advisory Committee Policy.

[FR Doc. 2026-01701 Filed 1-27-26; 8:45 am]

BILLING CODE 4140-01-P